DEPARTMENT OF ENERGY

Federal Energy Regulatory Commission

[Project No. 13806-000]

5440 Hydro Inc.; Notice of Preliminary Permit Application Accepted for Filing and Soliciting Comments, Motions To Intervene, and Competing Applications

July 19, 2010.

On July 9, 2010, 5440 Hydro Inc. filed an application, pursuant to section 4(f) of the Federal Power Act, proposing to study the feasibility of the Brooklyn Dam Hydroelectric Project (Brooklyn Dam), to be located on the Ammonoosuc River near the Town of Groveton, Coos County, New Hampshire.

The proposed project would consist of: (1) An existing approximately 15-foot-high, 90-foot-long crib dam with a 30-foot-long spillway; (2) an existing 18-acre reservoir; (3) an existing 50-foot × 50-foot concrete powerhouse and outlet structure; (4) two new turbine generator units with a total installed capacity of 600 kilowatts (kW); (5) a 50-foot-long transmission line connecting to an existing Public Service of New Hampshire distribution line located adjacent to the powerhouse; and (6) appurtenant facilities. The project would produce an estimated average annual generation of about 3,000 megawatt-hours, which would be sold directly to a local utility.

Applicant Contact: Mr. Luz Loegters, 717 Atlantic Avenue, Suite 1A, Boston, MA 02111, (416) 643-6610.

FERC Contact: John Ramer, (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13806) in the docket number field to access the document. For assistance, contact FERC Online Support.

Kimberly D. Bose,
Secretary.

[FR Doc. 2010-18281 Filed 7-26-10; 8:45 am]

BILLING CODE 6717-01-P